NATIONAL AERONAUTICS AND SPACE ADMINISTRATION

[02-018]

Notice of Agency Report Forms Under OMB Review.

AGENCY: National Aeronautics and Space Administration (NASA).

ACTION: Notice of agency report forms under OMB review.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). This information collection provides information on Goddard Space Flight Center Visitor Center volunteers.

DATES: Comments on this proposal should be received on or before March 13, 2002.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Title: Application for Volunteer Program.

OMB Number: 2700-0057.

Type of review: Extension.

Need and Uses: The application is used to collect information on persons applying to be a Goddard Space Flight Center Visitor Center Volunteer.

Affected Public: Individuals or households, Business or other-for-profit, Not-for-profit institutions, Farms, Federal Government, State, Local or Tribal Government.

Number of Respondents: 40.

Responses Per Respondent: 1.

Annual Responses: 30.

Hours Per Request: Approximately ½ hour.

Annual Burden Hours: 20.

Frequency of Report: On occasion.

David B. Nelson,
Deputy Chief Information Officer, Office of the Administrator.

[FR Doc. 02-3152 Filed 2-8-02; 8:45 am]

BILLING CODE 7510-01-P